DEPARTMENT OF TRANSPORTATION

Federal Aviation Administration

[Summary Notice No. PE-2008-30]

Petition for Exemption; Summary of Petition Received; Correction

AGENCY: Federal Aviation Administration (FAA), DOT.

ACTION: Notice of petition for exemption received; correction.

SUMMARY: This notice corrects the docket number of a previously-published petition for exemption. It also extends the comment period for the petition.

DATES: Comments on this petition must identify the petition docket number involved and must be received on or before August 25, 2008.

ADDRESSES: You may send comments identified by Docket Number FAA2007-0323, using any of the following methods:

• Government-wide rulemaking Web site: Go to http://www.regulations.gov and follow the instructions for sending your comments electronically.

• Mail: Send comments to the Docket Management Facility; U.S. Department of Transportation, 1200 New Jersey Avenue, SE., West Building Ground Floor, Room W12-140, Washington, DC 20590.

• Fax: Fax comments to the Docket Management Facility at (202) 493-2251.

• Hand Delivery: Bring comments to the Docket Management Facility in Room W12-140 of the West Building Ground Floor at 1200 New Jersey Avenue, SE., Washington, DC, between 9 a.m. and 5 p.m., Monday through Friday, except Federal holidays.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue, SE., Washington, DC, between 9 a.m. and 5 p.m., Monday through Friday, except Federal holidays.

FOR FURTHER INFORMATION CONTACT: Kenna Sinclair (425) 227-1556, Transport Airplane Directorate, ANM-113, Federal Aviation Administration, 1601 Lind Avenue, SE., Renton, WA 98055-4056, or Frances Shaver (202) 267-9681, Office of Rulemaking, ARM-204, Federal Aviation Administration, 800 Independence Avenue, SW., Washington, DC 20591.

SUPPLEMENTARY INFORMATION:

Background

On July 25, 2008 (73 FR 43484), the FAA published a petition for exemption from the Boeing Company (PE-2008-30). However, the FAA docket number listed for this petition was incorrect. This notice corrects the docket number. In addition, the FAA is extending the comment period for this petition until August 25, 2008 since the lack of a correct docket number may have prevented interested parties from being able to submit their comments.

The Correction

1. In the issue of July 25, 2008, on page 43484, in the second column, in the ADDRESSES section, the Docket Number should read FAA-2007-0323.

2. On page 43484, third column, under the heading “Petition for Exemption”, the Docket number should read FAA-2007-0232.

Issued in Washington, DC on July 30, 2008.
Pamela Hamilton-Powell,
Director, Office of Rulemaking.

Petition for Exemption

Docket No.: FAA-2007-0323.

Petitioner: The Boeing Company.

Section of 14 CFR Affected: §§ 25.857(e), 25.785(j), and 25.1447(c)(1).

Description of Relief Sought: The Boeing Company requests exemption from the airworthiness standards for transport category airplanes that would allow up to eleven (11) supernumeraries to access the main deck cargo compartment on a Boeing Model 777F airplane for all types of cargo operations, namely: (1) Cargo only, (2) live animals only, and (3) mixed cargo consisting of live animals and regular cargo.

[FR Doc. E8-17823 Filed 8-1-08; 8:45 am]

BILLING CODE 4910-13-P